DEPARTMENT OF THE INTERIOR

Bureau of Land Management

[F-19148-12, F-19148-13, F-19148-29, F-19148-35; AK-964-1410-KC-P]

Alaska Native Claims Selection

AGENCY: Bureau of Land Management, Interior.

ACTION: Notice of decision approving lands for conveyance.

SUMMARY: As required by 43 CFR 2650.7(d), notice is hereby given that an appealable decision approving the surface and subsurface estates in certain lands for conveyance pursuant to the Alaska Native Claims Settlement Act will be issued to Arctic Slope Regional Corporation. The lands are in the vicinity of the Colville River and Cape Lisburne, Alaska, and are located in:

Lands Outside the National Petroleum Reserve in Alaska

Umiat Meridian, Alaska

T. 1 S., R. 1 W.,

Secs. 1 and 2;

Secs. 10, 11, and 15.

Containing approximately 1,286 acres.

T. 1 S., R. 1 E.,

Secs. 3 to 6, inclusive.

Containing approximately 1,320 acres.

T. 1 N., R. 1 E.,

Secs. 24, 25, and 26;

Secs. 32 to 36, inclusive.

Containing approximately 2,543 acres.

T. 1 N., R. 2 E.

Secs. 1 and 2;

Secs. 11 to 14, inclusive;

Secs. 19 to 24, inclusive;

Sec. 30.

Containing approximately 2,580 acres.

T. 2 N., R. 2 E.,

Sec. 36.

Containing approximately 97 acres.

T. 1 N., R. 3 E.,

Secs. 6, 7, and 18.

Containing approximately 933 acres.

T. 2 N., R. 3 E.,

Secs. 20 and 21;

Secs. 28 to 33, inclusive.

Containing approximately 2,899 acres.

T. 3 S., R. 4 E.,

Secs. 1, 2, and 3;

Secs. 10 to 15, inclusive;

Secs. 22 to 27, inclusive;

Secs. 34, 35, and 36.

Containing approximately 11,520 acres.

T. 4 S., R. 4 E.,

Secs. 1, 2, and 3;

Secs. 10 to 15, inclusive;

Secs. 22 to 27, inclusive;

Secs. 34, 35, and 36.

Containing approximately 11,520 acres.

T. 5 S., R. 4 E.,

Secs. 1 to 9, inclusive.

Containing approximately 5,643 acres.

T. 12 S., R. 4 E.,

Secs. 5, 6, 7, and 25.

Containing approximately 2,266 acres.

T. 7 S., R. 6 W.,

Secs. 2, 3, and 4;

Secs. 9, 10, and 11;

Secs. 14, 15, and 16;

Secs. 21, 22, and 23.

Containing approximately 7,680 acres.

T. 6 S., R. 7 W.,

Secs. 19, 20, and 21;

Secs. 28 to 33, inclusive.

Containing approximately 5,660 acres.

T. 7 S., R. 7 W.,

Secs. 3 to 10, inclusive;

Secs. 15 to 18, inclusive.

Containing approximately 7,602 acres.

T. 6 S., R. 56 W.,

Sec. 36.

Containing approximately 7 acres.

T. 7 S., R. 56 W.,

Secs. 1 to 12, inclusive.

Containing approximately 5,658 acres.

T. 7 S. R. 57 W.,

Sec. 1;

Secs. 7 to 12, inclusive.

Containing approximately 3,210 acres.

T. 7 S., R. 58 W.,

Secs. 4 to 12, inclusive.

Containing approximately 2,159 acres.

Aggregating approximately 74,582 acres.

Notice of the decision will also be published four times in the Arctic Sounder.

DATES: The time limits for filing an appeal are:

1. Any party claiming a property interest which is adversely affected by the decision shall have until August 31, 2009 to file an appeal.

2. Parties receiving service of the decision by certified mail shall have 30 days from the date of receipt to file an appeal.

Parties who do not file an appeal in accordance with the requirements of 43 CFR Part 4, Subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Michael Bilancione,
Land Transfer Resolution Specialist, Land Transfer Adjudication I.

[FR Doc. E9-18214 Filed 7-29-09; 8:45 am]

BILLING CODE 4310-JA-P